DEPARTMENT OF THE INTERIOR

National Park Service

Environmental Assessment for Proposal To Add a Boardwalk and Viewing Deck and Rehabilitate the Overlooks at Great Falls Park, VA

AGENCY: National Park Service.

ACTION: Availability of the Environmental Assessment (EA) for the proposed boardwalk and viewing deck, and rehabilitation of Overlooks One and Two of Great Falls Park, Virginia, a unit of the George Washington Memorial Parkway (GWMP).

SUMMARY: Pursuant to Council on Environmental Quality regulations and National Park Service (NPS) policy, the NPS announces the availability of an EA for the proposed boardwalk and viewing deck, and rehabilitation of Overlooks One and Two of Great Falls Park, Virginia, a unit of the GWMP. The EA examines several alternatives aimed to increase visitor safety, provide accessibility, and improve resource protection around and between the Overlooks and the Shade Tree-Jetty area. The record of serious visitor injuries and drownings, as well as obvious impacts on park resources, indicates a need to better manage visitor use in order to alleviate safety concerns and enhance protection of the park's resources. The NPS is soliciting comments on this EA. These comments will be considered in evaluating it and making decisions pursuant to the National Environmental Policy Act.

DATES: The EA will remain available for public comment 30 days from the date of publication in the Federal Register. Written comments should be received no later than this date.

ADDRESSES: Comments on this EA should be submitted in writing to: Ms. Audrey F. Calhoun, Superintendent, George Washington Memorial Parkway, Turkey Run Park, McLean, Virginia 22101. The EA will be available for public inspection Monday through Friday, 8 a.m. through 4 p.m., at GWMP Headquarters, Turkey Run Park, McLean, Virginia, on the NPS Website www.nps.gov/gwmp, and at several libraries in Alexandria, Fairfax, and Arlington, Virginia.

SUPPLEMENTARY INFORMATION: The NPS proposes to increase accessibility and safety for trail users while maintaining the integrity of the natural and cultural resources at the Shade Tree-Jetty area and around Overlooks One and Two. Improvements to the park's system of trails and overlooks would address critical visitor safety and resource protection issues in the most heavily used part of the park. Two existing overlooks provide scenic views below the falls. The Overlooks are in deteriorating condition, and their concrete slab construction and steel handrails are visually incompatible with the surroundings. A short trail from the visitor center leads to an undeveloped area adjacent to and above the falls. This area provides some of the park's most spectacular and exciting viewing points. Unfortunately, numerous social trails have resulted from some visitors departing the designated trail system, inadvertently damaging stonework of the Patowmack Canal, rare plants, and other vegetation. Visitors also often scramble over the rocks and cliffs to reach certain vantage points. Their rock-hopping and wading along the river's edge at times places them in dangerous situations.

The following primary needs have been identified with this project to address the existing issues. There is a need:

1. To better manage visitor traffic in areas where resources are threatened and where there is no margin for error on the visitor's part.

2. To change inaccessible scenic views into accessible overlooks.

3. To protect natural and cultural resources from the Jetty to Overlook Two.

Incidents that have occurred at these locations have been formally documented by park staff and through conversations with visitors who have reported incidents. Finally, park staff and Fairfax County's Fire and Rescue teams have had to rescue or recover victims on several occasions from these areas.

All interested individuals, agencies, and organizations are urged to provide comments on the EA. The NPS, in making a final decision regarding this matter, will consider all comments received by the closing date.

FOR FURTHER INFORMATION CONTACT: Mr. Walter McDowney (703) 285-2763 or via email at Bonnie_Heath@nps.gov.

Audrey F. Calhoun,
Superintendent, George Washington Memorial Parkway.

[FR Doc. 01-27694 Filed 11-2-01; 8:45 am]

BILLING CODE 4310-70-P